DEPARTMENT OF HOMELAND SECURITY

Transportation Security Administration

Intent To Request Approval From OMB of One New Public Collection of Information: Highway Baseline Assessment for Security Enhancement (BASE) Program

AGENCY: Transportation Security Administration, DHS.

ACTION: 60-day notice.

SUMMARY: The Transportation Security Administration (TSA) invites public comment on a new Information Collection Request (ICR) abstracted below that we will submit to the Office of Management and Budget (OMB) for approval in compliance with the Paperwork Reduction Act (PRA). The ICR describes the nature of the information collection and its expected burden. The ICR will assess the current security practices in the highway and motor carrier industry by way of its Highway Baseline Assessment for Security Enhancement (BASE) program, which encompasses site visits and interviews, and is part of the larger domain awareness, prevention, and protection program supporting TSA's and the Department of Homeland Security's (DHS) missions. This voluntary collection allows TSA to conduct transportation security-related assessments during site visits with security and operating officials of surface transportation entities.

DATES: Send your comments by July 30, 2012.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Susan Perkins at the above address, or by telephone (571) 227-3398.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

Under the Aviation and Transportation Security Act (ATSA) and delegated authority from the Secretary of Homeland Security, TSA has broad responsibility and authority for “security in all modes of transportation including security responsibilities over modes of transportation that are exercised by the Department of Transportation.” ¹ TSA is also specifically empowered to develop policies, strategies, and plans for dealing with threats to transportation,² ensure the adequacy of security measures for the transportation of cargo,³ oversee the implementation and ensure the adequacy of security measures at transportation facilities,⁴ and carry out other appropriate duties relating to transportation security.⁵

¹ See Pub. L. 107-71, 115 Stat. 597 (Nov. 19, 2001), codified at 49 U.S.C. 114(d). The TSA Assistant Secretary's current authorities under ATSA have been delegated to him by the Secretary of Homeland Security. Section 403(2) of the Homeland Security Act (HSA) of 2002, Pub. L. 107-296, 116 Stat. 2315 (2002), transferred all functions of TSA, including those of the Secretary of Transportation and the Under Secretary of Transportation of Security related to TSA, to the Secretary of Homeland Security. Pursuant to DHS Delegation Number 7060.2, the Secretary delegated to the Assistant Secretary (now referred to as the Administrator of TSA), subject to the Secretary's guidance and control, the authority vested in the Secretary with respect to TSA, including that in sec. 403(2) of the HSA.

² 49 U.S.C. 114(f)(3).

³ 49 U.S.C. 114(f)(10).

⁴ 49 U.S.C. 114(f)(11).

⁵ 49 U.S.C. 114(f)(15).

In the past, TSA has conducted Corporate Security Reviews (CSRs) with organizations engaged in transportation by motor vehicle and those that maintain or operate key physical assets within the highway transportation community. These CSRs have served to evaluate and collect physical and operational preparedness information, critical assets and key point-of-contact lists, review emergency procedures and domain awareness training, and provide an opportunity to share industry best practices.⁶

⁶ See 74 FR 28264 (June 15, 2009) for the most recent reinstatement of the PRA for this program.

At this time, TSA is consolidating some assessment programs within surface modes of transportation. As part of this effort, the Highway CSR will become a Baseline Assessment for Security Enhancement (BASE). This will provide for greater consistency as TSA also has a BASE program to evaluate the status of security and emergency response programs on transit systems throughout the nation; this program operates similarly to the CSRs.

Highway BASE program will continue to be a voluntary, instructive, and interactive review used by TSA to assess the adequacy of security measures related to highway transportation—such as trucking, school bus, and motorcoach industries, privately-owned highway assets that may include bridges and tunnels, and other related systems and assets owned and operated by state departments of education and transportation. The Highway BASE program encompasses site visits and interviews, and is one piece of a much larger domain awareness, prevention, and protection program in support of the TSA and DHS missions. TSA is seeking to obtain OMB approval for this information collection so that TSA can ascertain minimum security standards and identify coverage gaps, activities critical to carrying out its transportation security mission.

Description of Data Collection

In carrying out BASE, Transportation Security Specialists (TSS) from TSA's Highway and Motor Carrier Division (HMC) and Transportation Security Inspectors-Surface (TSI-S) conduct site visits of trucking (excluding hazardous materials shippers and carriers as per agreement with U.S. Department of Transportation (DOT), Federal Motor Carrier Safety Administration (FMCSA), school bus, motorcoach companies, bridge and tunnel owners, State DOTs, and State Departments of Energy (DOEs) throughout the Nation. The TSA representatives analyze the owner's/operator's security plan, if the owner/operator has adopted one, and determines if the mitigation measures included in the plan are being properly implemented. In addition to examining the security plan document, TSA reviews one or more assets of the private and/or public owner/operator. During the site visits, TSA completes a BASE checklist form, which contains four (4) topic areas: Management and accountability, personnel security, facility security, and vehicle security. Within these four topics are twenty-three recommended measures, also referred to as Security Action Items (SAIs). TSA conducts this collection through voluntary face-to-face visits at the headquarters and site facilities of the surface transportation owners/operators. All BASE reviews are done on a voluntary basis.

Typically, TSA sends one to two employees to conduct a two to three hour discussion/interview with representatives from the owner/operator. TSA collects information from businesses of all sizes in the course of conducting these surface mode BASEs. TSA conducts these interviews to ascertain information on security measures and to identify security gaps. The interviews also provide TSA with a method to encourage the surface transportation owners/operators affected by the BASE to be diligent in effecting and maintaining security-related improvements. This program provides TSA with real-time information on current security practices within the infrastructure, trucking, school bus, and motorcoach modes of the surface transportation sector. This information allows TSA to adapt programs to the changing threat dynamically, while incorporating an understanding of the improvements owners/operators make in their security posture. Without this information, the ability of TSA to perform its security mission would be severely hindered. Additionally, the relationships these face-to-face contacts foster are critical to TSA's ability to reach out to the surface transportation stakeholders affected by the BASEs. TSA assures respondents the portion of their responses deemed Sensitive Security Information (SSI) will be handled consistent with 49 CFR parts 15 and 1520.

Use of Results

The Highway BASE process will align highway and motor carrier security efforts with other TSA risk reduction efforts and provide industry partners corrective action options to consider by identifying security smart practices to share with others.

A BASE review evaluates a highway modal entity's security program components using a two-phased approach: (1) Field collection of information and (2) analysis/evaluation of collected information. The information collected by TSA through BASE reviews strengthens the security of highway systems by supporting security program development (including grant programs) and the analysis/evaluation provides a consistent road map for highway systems to address security and emergency program vulnerabilities. In addition, each highway entity that undergoes a BASE assessment is provided with a report of results that is used in security enhancement activities.

Specifically, the information collected will be used:

1. To develop a baseline understanding of a highway entity's security and emergency management processes, procedures, policies, programs, and activities against security requirements and recommended security practices published by TSA.

2. To enhance a highway entity's overall security posture through collaborative review and discussion of existing security activities, identification of areas of potential weakness or vulnerability, and development of remedial recommendations and courses of action.

3. To identify programs and protocols implemented by a highway entity that represent an “effective” or “smart” security practice warranting sharing with the highway community as a whole to foster general enhancement of security in the highway surface mode.

4. To inform TSA's development of security strategies, priorities, and programs for the most effective application of available resources, including funds distributed under the Intercity Bus Security Grant Program (IBSGP) and Trucking Security Program (TSP), to enhance security in the Nation's highway modal system.

While TSA has not set a limit on the number of BASE reviews to conduct, TSA estimates approximately 750 visits per year. The annual hour burden for this information collection is estimated to be 3,000 hours. This estimate is based on TSA conducting 750 visits per year, each visit lasting two to three hours. TSA estimates no annual cost burden to respondents.

Issued in Arlington, Virginia, on May 22, 2012.
Susan Perkins,
TSA Paperwork Reduction Act Officer, Office of Information Technology.

[FR Doc. 2012-12957 Filed 5-25-12; 8:45 am]

BILLING CODE 9110-05-P